DEPARTMENT OF HOMELAND SECURITY

U.S. Citizenship and Immigration Services

Agency Information Collection Activities: Employment Eligibility Verification, Form I-9, OMB Control No. 1615-0047; Revision of an Existing Information Collection, Comment Request

ACTION: 30-Day Notice of Information Collection Under Review: Employment Eligibility Verification, Form I-9.

The Department of Homeland Security (DHS), U.S. Citizenship and Immigration Services (USCIS) will be submitting the following information collection request to the Office of Management and Budget (OMB) for review and clearance in accordance with the Paperwork Reduction Act of 1995. The information collection was previously published in the Federal Register on March 27, 2012, at 77 FR 18256, allowing for a 60-day public comment period. USCIS received over 6,200 comments in connection with that publication.

The purpose of this notice is to allow an additional 30 days for public comments. Comments are encouraged and will be accepted until September 21, 2012. This process is conducted in accordance with 5 CFR 1320.10.

Written comments and suggestions regarding items contained in this information collection notice, and especially, with regard to the estimated public burden and associated response time should be directed to the DHS, USCIS, Office of Policy and Strategy, Laura Dawkins, Chief, Regulatory Coordination Division, 20 Massachusetts Avenue NW, Washington, DC 20529. Comments may be submitted to DHS via email at uscisfrcomment@dhs.gov and must include OMB Control Number 1615-0047 in the subject box. Comments may also be submitted via the Federal eRulemaking Portal Web site at http://www.regulations.gov under e-Docket ID number USCIS-2006-0068.

All submissions received must include the agency name and Docket ID. Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

When submitting comments by email please make sure to add OMB Control Number 1615-0047 in the subject box. Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved information collection.

(2) Title of the Form/Collection: Employment Eligibility Verification.

(3) Agency form number, if any, and the applicable component of the Department of Homeland Security sponsoring the collection: Form I-9. U.S. Citizenship and Immigration Services.

(4) Affected public who will be asked or required to respond, as well as a brief abstract: Primary: Employers, employees, recruiters and referrers for a fee (limited to agricultural associations, agricultural employers, or farm labor contractors), and state employment agencies. This form was developed to facilitate compliance with section 274A of the Immigration and Nationality Act, which prohibits the knowing employment of unauthorized aliens. This information collection is necessary for employers, agricultural recruiters and referrers for a fee, and state employment agencies to verify the identity and employment authorization of individuals hired (or recruited or referred for a fee, if applicable) for employment in the United States.

(5) An estimate of the total number of respondents and the amount of time estimated for an average respondent to respond: This figure was derived by multiplying the number of employers, recruiters and referrers for a fee (limited to agricultural associations, agricultural employers, or farm labor contractors), and state employment agencies (78,000,000) × frequency of response (1) × .33 hours (20 minutes) per response and the number of employees (78,000,000) × frequency of response (1) × .17 hours (10 minutes) per response. The annual record keeping burden is added to the total annual reporting burden which is based on 20,000,000 record keepers at .08 hours (5 minutes) per filing.

(6) An estimate of the total public burden (in hours) associated with the collection: 40,600,000 annual burden hours.

If you need a copy of the proposed information collection instrument with instructions, or additional information, please visit the Federal eRulemaking Portal Web site at: http://www.regulations.gov/search/index.jsp.

If additional information is required contact: USCIS, Regulatory Coordination Division, Office of Policy and Strategy, 20 Massachusetts Avenue, Washington, DC 20529, (202) 272-1470.

Dated: August 17, 2012.
Laura Dawkins,
Chief, Regulatory Coordination Division, Office of Policy and Strategy, U.S. Citizenship and Immigration Services, Department of Homeland Security.

[FR Doc. 2012-20631 Filed 8-21-12; 8:45 am]

BILLING CODE 9111-97-P